DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 2, 2004.

Interested persons are invited to submit written comments regarding the subject matter of the investigations to the Director, Division of Trade Adjustment Assistance, at the address shown below, not later than February 2, 2004.

The petitions filed in this case are available for inspection at the Office of the Director, Division of Trade Adjustment Assistance, Employment and Training Administration, U.S. Department of Labor, Room C-5311, 200 Constitution Avenue, NW., Washington, DC 20210.

Signed at Washington, DC, this 12th day of January, 2004.
Timothy Sullivan,
Director, Division of Trade Adjustment Assistance.

Appendix
[Petitions Instituted Between 12/22/2003 and 12/24/2003]
TA-W | Subject firm (petitioners) | Location | Date of institution | Date of petition
53,849 | Smurfit-Stone (FL) | Jacksonville, FL | 12/22/2003 | 12/19/2003
53,850 | Combined Specialty Group, Inc. (GA) | Alpharetta, GA | 12/22/2003 | 12/19/2003
53,851 | Dura/Amco Joint Venture (UAW) | Adrian, MI | 12/22/2003 | 12/17/2003
53,852 | Solid Wood Systems, Inc. (Comp) | High Point, NC | 12/22/2003 | 12/15/2003
53,853 | Four Leaf Textiles, LLC (Comp) | Spindale, NC | 12/22/2003 | 12/19/2003
53,854 | Warnaco (CT) | Milford, CT | 12/22/2003 | 12/18/2003
53,855 | American Fast Print (Wkrs) | Spartanburg, SC | 12/22/2003 | 11/28/2003
53,856 | Rock-Tenn Co. (Wkrs) | El Paso, TX | 12/22/2003 | 10/29/2003
53,857 | Parkdale America (Comp) | Caroleen, NC | 12/22/2003 | 12/12/2003
53,858 | Elo TouchSystems, Inc. (Comp) | Fremont, CA | 12/22/2003 | 12/11/2003
53,859 | Crane Plumbing (Wkrs) | Mansfield, OH | 12/22/2003 | 12/06/2003
53,860 | U2 Technology, Inc. (Comp) | Wasilla, AK | 12/22/2003 | 12/17/2003
53,861 | Franklin Mint (Wkrs) | Franklin Center, PA | 12/23/2003 | 12/12/2003
53,862 | Questar Medical, Inc. (MN) | Eden Prarie, MN | 12/23/2003 | 12/22/2003
53,863 | Meadow River Enterprises, Inc. (Wkrs) | Lewisburg, WV | 12/23/2003 | 12/16/2003
53,864 | Lu-Mac, Inc. (Comp) | Ford City, PA | 12/23/2003 | 12/22/2003
53,865 | American Standard (Wkrs) | Chandler, AZ | 12/23/2003 | 12/17/2003
53,866 | Schott Scientific Glass, Inc. (USWA) | Parkersburg, WV | 12/23/2003 | 12/22/2003
53,867 | Foredtert Malt Co., Inc. (UAW) | Milwaukee, WI | 12/23/2003 | 12/19/2003
53,868 | Signage, Inc. (Comp) | Centerville, TN | 12/23/2003 | 12/19/2003
53,869 | Florida Tile Industries, Inc. (FL) | Lakeland, FL | 12/23/2003 | 12/19/2003
53,870 | Hoffman LaRoche, Inc. (NJ) | Nutley, NJ | 12/23/2003 | 12/22/2003
53,871 | PolyOne, Inc. (NJ) | Burlington, NJ | 12/23/2003 | 12/23/2003
53,872 | Metso Mineral Industries, Inc. (Comp) | Colo. Springs, CO | 12/23/2003 | 12/22/2003
53,873 | Olympic West Sportswear, Inc. (Comp) | Puyallup, WA | 12/23/2003 | 12/22/2003
53,874 | Cascade West Sportswear, Inc. (Comp) | Puyallup, WA | 12/23/2003 | 12/22/2003
53,875 | Cascada de Mexico, Inc. (Comp) | Puyallup, WA | 12/23/2003 | 12/22/2003
53,876 | Schlegel Systems, Inc. (Wkrs) | Rochester, NY | 12/24/2003 | 12/15/2003
53,877 | Unifrax Corp. (Comp) | Niagara Falls, NY | 12/24/2003 | 12/17/2003
53,878 | NVF Company (PACE) | Kennett Square, PA | 12/24/2003 | 12/16/2003
53,879 | Johnson-Rose Corp. (Comp) | Lockport, NY | 12/24/2003 | 12/17/2003
53,880 | Smurfit-Stone Container Corp. (Wkrs) | Philadelphia, PA | 12/24/2003 | 12/15/2003
53,881 | Tillotson Rubber (Comp) | Fall River, MA | 12/24/2003 | 12/08/2003
53,882 | International Mill Service (USWA) | Midland, PA | 12/24/2003 | 12/04/2003
53,883 | H and J Leather (Wkrs) | Johnstown, NY | 12/24/2003 | 12/15/2003
53,884 | S. J. Bailey and Son, Inc. (Wkrs) | Carbondale, PA | 12/24/2003 | 12/17/2003

[FR Doc. 04-1428 Filed 1-22-04; 8:45 am]

BILLING CODE 4510-30-M